NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 28, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Commissary Agency (N1-506-07-4, 17 items, 16 temporary items). Records relating to management of financial resources for commissary operations. Included are such records as internal control documents, annual reports, financial correspondence, travel documentation, charge card applications, purchase card correspondence, support agreements, budget review and apportionment, interdepartmental purchase requests and reimbursements, improvement studies and surveys, commercial activity documentation, case files and related records. Proposed for permanent retention are records relating to organization, missions, functions and responsibilities.

2. Department of Homeland Security, United States Citizenship and Immigration Services (N1-566-08-1, 2 items, 2 temporary items). Political appointee clearance and vetting files, including correspondence, applications for employment, resumes, letters of reference, White House clearance checklist, financial disclosure reports, security clearances, and other documentation relating to the selection, clearance, and appointment of political appointees.

3. Department of Homeland Security, United States Citizenship and Immigration Services (N1-566-08-6, 1 item, 1 temporary item). Master file associated with an electronic information system that tracks and supports the adjudication of parole requests for individuals outside of the United States.

4. Department of Homeland Security, United States Citizenship and Immigration Services (N1-566-08-7, 1 item, 1 temporary item). Master file associated with an electronic information system that verifies the employment eligibility of newly-hired employees and the immigration status of individuals seeking government benefits.

5. Department of Homeland Security, United States Citizenship and Immigration Services (N1-566-08-8, 1 item, 1 temporary item). Master file associated with an electronic information system that tracks and manages customer service information.

6. Department of Homeland Security, United States Citizenship and Immigration Services (N1-566-08-9, 2 items, 2 temporary items). Master files associated with an electronic information system that allows customers and agency personnel to review the status of a case.

7. Department of Homeland Security, United States Coast Guard (N1-26-08-2, 1 item, 1 temporary item). Master file for an electronic message archiving system containing copies of messages and reports used by law enforcement and intelligence officers to maintain maritime safety and security.

8. Department of the Interior, Bureau of Reclamation (N1-115-08-3, 4 items, 4 temporary items). Master files for electronic systems that provide specialized engineering and scientific support to the Bureau's Technical Service Center. The proposed disposition instructions are limited to electronic records.

9. Department of the Interior, Bureau of Reclamation (N1-115-08-5, 1 item, 1 temporary item). Master file of an electronic system that provides a single source of financial, budgetary, and human resource data for other management information system applications for the Bureau. The proposed disposition instructions are limited to electronic records.

10. Department of the Interior, Bureau of Reclamation (N1-115-08-6, 2 items, 2 temporary items). Inputs and master file of an electronic system that automates the business practices and workflow processes of the Research and Development Office. The proposed disposition instructions are limited to electronic records.

11. Department of the Interior, Bureau of Reclamation (N1-115-08-7, 2 items, 2 temporary items). Master file and outputs of an electronic system that supports the Bureau's dam safety program. The proposed disposition instructions are limited to electronic records.

12. Department of Justice, Bureau of Alcohol, Tobacco, Firearms, and Explosives (N1-436-08-2, 2 items, 2 temporary items). Paper and scanned versions of National Instant Criminal Background Check System referrals from the Federal Bureau of Investigation which require investigation.

13. Department of Justice, Bureau of Prisons (N1-129-08-1, 2 items, 2 temporary items). Data and outputs for the Federal Prison Industries MS Visual System Safe, which provides an electronic information storage library.

14. Department of Justice, Bureau of Prisons (N1-129-08-2, 2 items, 2 temporary items). Data and outputs for the Federal Prison Industries public Web site which provides access to general and operational information.

15. Department of Justice, Federal Bureau of Investigation (N1-65-08-4, 7 items, 7 temporary items). Wiki and other online collaborative tools used for developing training curriculum and other administrative functions of the Office of Technology, Research and Curriculum Development.

16. Department of Justice, Federal Bureau of Investigation (N1-65-08-8, 1 item, 1 temporary item). This schedule requests authority to destroy cases 29J-SF-118302 and 164B-TP-63625, which pertain exclusively to the investigation of the captioned individual. This request responds to a Federal Pre-Trial Diversion Program court order to delete the records of the captioned individual.

17. Department of State, Bureaus of Near East Affairs and South and Central Asian Affairs (N1-59-08-11, 8 items, 7 temporary items). Copies of directives; post information on budget, travel, and operating expenses; general subject files; and records relating to administrative support for closings and openings of posts. Proposed for permanent retention are annual post submissions of goals and objectives. The proposed disposition instructions are limited to paper records for annual post submissions.

18. National Archives and Records Administration (N1-64-08-7, 9 items, 9 temporary items). Records consisting of the Archival Research Catalog (ARC) application database, which is a data entry system including Archival Information Locator descriptions, archival descriptions, domains of the data entry system, ARC target reports and authority files and lists.

Dated: April 22, 2008.
Michael J. Kurtz,
Assistant Archivist for Records Services—Washington, DC.

[FR Doc. E8-9306 Filed 4-25-08; 8:45 am]

BILLING CODE 7515-01-P